FEDERAL COMMUNICATIONS COMMISSION

Federal Advisory Committee Act; Open Internet Advisory Committee

AGENCY: Federal Communications Commission.

ACTION: Notice; of intent to establish.

SUMMARY: In accordance with the Federal Advisory Committee Act, the purpose of this notice is to announce that a Federal Advisory Committee, known as the “Open Internet Advisory Committee” (hereinafter “the Committee”), is being established.

FOR FURTHER INFORMATION CONTACT: Ellen Satterwhite, Federal Communications Commission, Consumer and Governmental Affairs Bureau, 202-418-3626, e-mail: ellen.satterwhite@fcc.gov.

SUPPLEMENTARY INFORMATION: The Chairman of the Federal Communications Commission (“FCC”) has determined that the establishment of the Committee is necessary and in the public interest in connection with the performance of duties imposed on the FCC by law. The Committee Management Secretariat, General Service Administration concurs with the establishment of the Committee. The purpose of the Committee is to track and evaluate the effects of the FCC's Open Internet rules (available at http://www.fcc.gov/Daily_Releases/Daily_Business/2010/db1223/FCC-10-201A1.pdf), and to provide any recommendations the Committee deems appropriate to the FCC regarding policies and practices related to preserving the open Internet. The Committee will observe market developments regarding the freedom and openness of the Internet and will focus in particular on issues addressed in the FCC's Open Internet rules, such as transparency, reasonable network management practices, differences in treatment of fixed and mobile broadband services, specialized services, technical standards, and the state of competition.

Federal Communications Commission.
Marlene H. Dortch,
Secretary.

[FR Doc. 2011-9723 Filed 4-20-11; 8:45 am]

BILLING CODE 6712-01-P